FEDERAL COMMUNICATIONS COMMISSION

47 CFR Part 1

[WC Docket No. 17-84; Report No. 3209; FR ID 201345]

Petitions for Reconsideration of Action in Rulemaking Proceeding

AGENCY: Federal Communications Commission.

ACTION: Petition for Reconsideration; correction.

SUMMARY: The Federal Communications Commission published a document in the Federal Register on January 29, 2024, announcing the dates for filing oppositions and replies to a Petition for Reconsideration of Action in a Rulemaking Proceeding in WC Docket No. 17-84, adopted by the Commission on December 13, 2023. There is an error in the Dates section of this document, incorrectly setting the deadline for replies to oppositions as February 8, 2024 rather than February 23, 2024.

DATES: February 9, 2024.

FOR FURTHER INFORMATION CONTACT: For further information, please contact Michael Ray, Competition Policy Division, Wireline Competition Bureau, at Michael.Ray@fcc.gov, 202-418-0357.

SUPPLEMENTARY INFORMATION:

Correction

In the Federal Register of January 29, 2024, in FR Doc. 2024-01633, on page 5439, in the third column, fourth paragraph from the bottom, correct the “Dates” caption to read:

DATES: Oppositions to the Petitions must be filed on or before February 13, 2024. Replies to oppositions must be filed on or before February 23, 2024.

Federal Communications Commission.
Marlene Dortch,
Secretary.

[FR Doc. 2024-02624 Filed 2-8-24; 8:45 am]

BILLING CODE 6712-01-P